DEPARTMENT OF TRANSPORTATION

Office of the Secretary; Notice of Applications for Certificates of Public Convenience and Necessity and Foreign Air Carrier Permits Filed Under Subpart B (Formerly Subpart Q) During the Week Ending March 15, 2002

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2002-11861.

Date Filed: March 15, 2002.

Due Date for Answers, Conforming Applications, or Motion to Modify Scope: April 5, 2002.

Description: Application of Sun Country Airlines, Inc. (Sun Country) and MN Airlines, LLC (MNA), pursuant to 49 U.S.C. 41102 and Subpart B, requesting transfer of Sun Country's air carrier certificate authority to MNA.

Dorothy Y. Beard,
Federal Register Liaison.

[FR Doc. 02-7717 Filed 3-28-02; 8:45 am]

BILLING CODE 4910-62-P